DEPARTMENT OF TRANSPORTATION

Office of the Secretary

Notice of Applications for Certificates of Public Convenience and Necessity and Foreign Air Carrier Permits Filed Under Subpart B (Formerly Subpart Q) During the Week Ending January 19, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-26980.

Date Filed: January 17, 2007.

Due Date for Answers, Conforming Applications, or Motion to Modify Scope: February 7, 2007.

Description: Application of Jade Cargo International Company Limited requesting a foreign air carrier permit authorizing it to engage in charter foreign air transportation of property and mail between any point or points in the People's Republic of China, on the one hand, and any point or points in the United States, on the other hand.

Docket Number: OST-1996-2016.

Date Filed: January 18, 2007.

Due Date for Answers, Conforming Applications, or Motion to Modify Scope: February 8, 2007.

Description: Application of Delta Air Lines, Inc. requesting renewal of its certificate authority to engage in scheduled foreign air transportation of persons, property, and mail between Atlanta, GA, and the coterminal points Sao Paulo and Rio de Janeiro, Brazil.

Docket Number: OST-2007-27019.

Date Filed: January 19, 2007.

Due Date for Answers, Conforming Applications, or Motion to Modify Scope: February 9, 2007.

Description: Application of Delta Air Lines, Inc. requesting (i) a certificate of public convenience and necessity to engage in scheduled foreign air transportation of persons, property, and mail between the United States and China, (ii) seven weekly frequencies for that service, and (iii) a U.S.-China designation.

Renee V. Wright,
Program Manager, Docket Operations, Federal Register Liaison.

[FR Doc. E7-1995 Filed 2-6-07; 8:45 am]

BILLING CODE 4910-9X-P